DEPARTMENT OF THE TREASURY

Alcohol and Tobacco Tax and Trade Bureau

27 CFR Part 9

[Notice No. 17]

RIN: 1513-AA75

Proposed Southern Oregon Viticultural Area (2002R-338P)

AGENCY: Alcohol and Tobacco Tax and Trade Bureau (TTB), Treasury.

ACTION: Notice of proposed rulemaking.

SUMMARY: The Alcohol and Tobacco Tax and Trade Bureau proposes to establish the Southern Oregon viticultural area in portions of Douglas, Jackson, and Josephine Counties in southwestern Oregon. The proposed area encompasses the established Applegate Valley, Rogue Valley, and Umpqua Valley viticultural areas. We designate viticultural areas to allow bottlers to better describe the origin of wines and to allow consumers to better identify the wines they may purchase. We invite comments on this proposed addition to our regulations. We particularly invite comments from industry members whose labels may be affected by this proposed area's establishment.

DATES: We must receive written comments on or before November 17, 2003.

ADDRESSES: You may send comments to any of the following addresses:

• Chief, Regulations and Procedures Division, Alcohol and Tobacco Tax and Trade Bureau, P.O. Box 50221, Washington, DC 20091-0221 (Attn: Notice No. 17);

• 202-927-8525 (facsimile);

• nprm@ttb.gov (e-mail); or

• http://www.ttb.gov. (An online comment form is posted with this notice on our Web site.

You may view copies of the proposed regulations and any comments received about this notice online at http://www.ttb.gov and by appointment at the ATF Reference Library, 650 Massachusetts Avenue, NW., Washington, DC 20226; phone 202-927-7890.

See the “Public Participation” section of this notice for specific instructions and requirements for submitting comments and for information on how to request a public hearing.

FOR FURTHER INFORMATION CONTACT: Nancy Sutton, TTB Specialist, Regulations and Procedures Division (Oregon), Alcohol and Tobacco Tax and Trade Bureau, 946 NW Circle Blvd. #286, Corvallis, OR 97330; telephone 415-271-1254.

SUPPLEMENTARY INFORMATION:

Background on Viticultural Areas

TTB Authority

The Federal Alcohol Administration Act (FAA Act) at 27 U.S.C. 205(e) requires that alcohol beverage labels provide the consumer with adequate information regarding a product's identity, while prohibiting the use of misleading information on such labels. The FAA Act also authorizes the Secretary of the Treasury to issue regulations to carry out its provisions. The Secretary has delegated this authority to the Treasury Department's Alcohol and Tobacco Tax and Trade Bureau (TTB).

Regulations in 27 CFR part 4, Labeling and Advertising of Wine, allow the establishment of definitive viticultural areas and the use of their names as appellations of origin on wine labels and in wine advertisements. Title 27 CFR part 9, American Viticultural Areas, contains the list of approved viticultural areas.

Definition

Title 27 CFR 4.25a(e)(1) defines an American viticultural area as a delimited grape-growing region distinguishable by geographic features whose boundaries have been delineated in subpart C of part 9. These designations allow vintners and consumers to attribute a given quality, reputation, or other characteristic of a wine made from grapes grown in a viticultural area to the wine's geographic origin.

Establishment Requirements

Section 4.25a(e)(2) outlines the procedure for proposing an American viticultural area. Anyone interested may petition TTB to establish a grape-growing region as a viticultural area. The petition must include—

• Evidence that the proposed viticultural area is locally and/or nationally known by the name specified in the petition;

• Historical or current evidence that the boundaries of the proposed viticultural area are as specified in the petition;

• Evidence of growing conditions, such as climate, soil, elevation, physical features, etc., which distinguish the proposed area from surrounding areas;

• A description of the proposed viticultural area's specific boundaries, based on features found on United States Geological Survey (USGS)-approved maps; and

• Copies of the appropriate USGS-approved map(s) with the boundaries prominently marked.

Impact on Current Wine Labels

As appellations of origin, viticultural area names have geographic significance and, under the FAA Act, may not be used in a misleading manner on wine labels. Our 27 CFR part 4 label regulations prohibit the use of brand names with geographic significance on a wine unless the wine meets the appellation of origin requirements for the named area. The FAA Act and our regulations also prohibit the misleading use of a viticultural area name on a wine label in a context other than an appellation of origin.

If this proposed viticultural area is established, bottlers who use brand names, including trademarked names, similar to “Southern Oregon” must ensure that their existing products are eligible to use the viticultural area's name as an appellation of origin. For a wine to be eligible, at least 85 percent of the grapes in the wine must have been grown within the viticultural area, and the wine must meet the other requirements of 27 CFR 4.25a(e)(3). If a wine is not eligible for the appellation, the bottler must change the brand name or other label reference and obtain approval of a new label. Different rules apply if a wine in this category has a brand name used on a label approved prior to July 7, 1986. See 27 CFR 4.39(i) for details.

Southern Oregon Petition

General Background

TTB has received a petition from Mr. H. Earl Jones, a winemaker, and Dr. Gregory V. Jones, an associate professor of geography, requesting establishment of a new viticultural area to be called “Southern Oregon.” Located between the Coast Range and the Cascade Mountains, the proposed area covers portions of Douglas, Jackson, and Josephine Counties in southwestern Oregon. Beginning about 25 miles south of Eugene, the proposed area stretches about 125 miles south to the California State line and is 60 miles wide at its widest point. The proposed area covers approximately 2,001,430 acres and includes the cities of Sutherlin, Roseburg, Grants Pass, Medford, and Ashland, Oregon.

The proposed Southern Oregon viticultural area encompasses the established Umpqua Valley (27 CFR 9.89) and Rogue Valley (27 CFR 9.132) viticultural areas. A third established viticultural area, Applegate Valley (27 CFR 9,165), is entirely within the Rogue Valley area. As of 2002, there are at least 120 vineyards, totaling over 3,000 acres currently planted, and 17 commercial wineries within the proposed area's boundaries.

According to the petition, the proposed Southern Oregon viticultural area contains a series of high intermountain valleys that share a warm, sunny, arid climate and contain old, complex soils derived from bedrock. These growing conditions, the petition notes, produce a wide range of vinifera grapes in vineyards typically situated in the proposed area's higher elevations. The petition also states that these features make warm climate viticulture possible in Southern Oregon and distinguish it from surrounding areas such as the Willamette Valley to the north, the Pacific coastal regions to the west, and the region east of the Cascade Mountains.

Viticultural History

According to the petition, grapes have been grown in Southern Oregon since 1852 when Peter Britt operated a winery in Jacksonville, Oregon, that produced wine for local miners. Shortly thereafter, Jesse Applegate planted some 1,200 grape vines in Umpqua, Oregon. Modern day viticulture began in 1959 when Richard Summers founded Hillcrest Vineyard and produced 230 gallons of Riesling. The early 1970s saw the establishment of vineyards in the Umpqua and Rogue valleys by the Henry Estate Winery, Girardet Wine Cellars, and the Valley View Winery. Since then, plantings have continued within the proposed area and now total at least 120 vineyards covering some 3000 acres. As noted above, the proposed area encompasses three established viticultural areas, Umpqua Valley, Rogue Valley and Applegate Valley, and contains 17 commercial wineries.

Name Evidence

The petition asserts the state of Oregon is physically and culturally divided into five main regions: (1) The coastal zone (all lands west of the Coastal Ranges to the Pacific Ocean), (2) the Willamette Valley (the largely urbanized areas extending from Eugene northward to Portland), (3) the Cascades (the spine of Oregon's dominant mountain chain), (4) Eastern Oregon (all lands from the Cascades eastward to Idaho border), and (5) Southern Oregon (the intermountain valleys south of Eugene to the California state line.) Further, the petition suggests that Oregonians are sharply divided by and largely identify with these naturally occurring geographic regions of the State.

As evidence for the proposed area's suggested name, the petition cites “The Encyclopedia of Oregon's” definition of “Southern Oregon” as “extending from the Calapooya Mountains southward to the [California] State line between the Cascades and the Coast Range.” The petition also states that geographical references to Southern Oregon are found in multiple business page listings in the telephone books of Douglas, Jackson, and Josephine counties. Telephone books from Klamath Falls and Lakeview, however, indicate that the region east of the proposed area is known as Central Oregon.

Moreover, the petition also claims that wine industry publications such as Wine Business Monthly and Northwest Palate magazines, refer to wine grape production in Jackson, Josephine, and Douglas counties as “Southern Oregon.” Finally, the petitioner believes that a “Southern Oregon” appellation will have more relevance to consumers since it better describes the true origin of the area's wines and helps distinguish them from Willamette Valley wines, which, the petition notes, are significantly different.

Boundary Evidence

The proposed Southern Oregon viticultural area encompasses three existing approved viticultural areas (Umpqua Valley, Rogue Valley, and Applegate Valley) and a connecting valley corridor of similar viticultural potential. The boundaries of the three viticultural areas are well established and clearly documented in 27 CFR part 9; there will be no changes in their boundaries.

Within the proposed Southern Oregon area, the only land added to the three established viticultural areas is a 12-by 17-mile north-south connecting corridor in Douglas County joining the Umpqua Valley area with the Rogue Valley area. The petitioner used a series of township and range lines to define the boundaries of the connecting corridor, which is roughly centered on Interstate 5 between Canyonville and Glendale Junction. The petition states that the new connecting corridor has the same physical features as the established areas to its north and south. The corridor includes, for example, a portion of the Cow Creek drainage, a tributary of the South Umpqua River.

The petition notes that the proposed area's boundaries are based on a combination of climate, terrain, and soil factors that contrast with the nearby Willamette Valley, coastal, and Eastern Oregon regions. The viticultural features of the proposed area, the petition adds, allow Southern Oregon to enjoy the unique position of producing both warm and cool climate wine grape varietals of excellent quality.

Growing Conditions

Topography

The petition states that the proposed Southern Oregon area contains a varied, mountainous topography with vineyards typically situated in high mountain valleys. The southern coastal mountains, in particular the Klamaths, form a natural barrier to the proposed area's west. These lofty coastal mountains reach 2,500 feet in elevation north of Roseburg and rise to more than 5,000 feet near the California border. This high mountain barrier prevents marine air from freely moving inland into the proposed area. This mountain barrier also casts an ever-larger rain shadow to the proposed area's south and east.

In contrast, according to the petition, the cooling effect of maritime weather systems flowing east from the Pacific Ocean through the Van Duzer Corridor, a gap in the Coast Range, greatly affect the Willamette Valley area to the proposed area's north. This contrast becomes more apparent, the petition states, as one travels from the north into Southern Oregon since each succeeding valley lies at a higher elevation. Most Willamette Valley vineyards lie only a few hundred feet above sea level, while many vineyards in the Umpqua Valley are above 1,000 feet, and those in the Rogue Valley are typically at elevations of 1,200 feet to 2,000 feet.

Soils

The petition states the soils of the proposed Southern Oregon area evolved slowly from ancient rocks with little contribution from more recent silts and sediments, like those that formed the Willamette soils to the north. Specifically, the petitioner provided reference material that suggests the soils in the proposed Southern Oregon viticultural area come mainly from the 200 million year-old Klamath Mountains, which lie to the area's west. These ancient mountains, which extend up from California to the latitude of Roseburg, OR, are comprised of sedimentary rocks. Over time, the petition notes, a slow and complex geologic process crushed, metamorphosed, and modified these rock substrates.

In contrast, the petition asserts that the Willamette Valley formed in recent geologic time (25 million years ago) as an extension of the ocean or perhaps as multiple interconnected bays, which gradually filled with sediments and occasional basalt lava flows. The glacial Lake Missoula flood also deposited silts and sediments in the Willamette Valley, which help explains much of its flatness. The petition also indicates that the Pacific coastal zone's soils differ from Southern Oregon's soils since they are more highly weathered and consist of a mix of soils from older volcanoes and accreted terrains of oceanic crust. The soils found in the Cascade Mountains and eastward, which vary from mostly young volcanic soils to arid desert and prairie soils, also differ from those found in the proposed area.

Temperature

According to the petition, the proposed Southern Oregon viticultural area provides the warmest growing conditions in the state of Oregon and allows the practice of “warm climate viticulture.” This is significant, the petition asserts, because of the dramatic impact a warm growing season has on harvest date, fruit quality, and varieties of grapes grown. The petition notes the 1999 Oregon Agricultural Statistics report showed that 99% of the Merlot grapes and 82% of the Cabernet Sauvignon grapes growing in Oregon were found in Umpqua and Rogue Valley vineyards. Despite the demonstrated ability of the Rogue and Umpqua Valleys to produce warm climate grapes, the petition also notes that many growers search out cool microclimates within Southern Oregon's many and varied hillsides and valleys. This places the proposed area in the unique position of being able to produce both warm and cool climate wine grape varieties, according to the petitioners.

The petition states that the general climate structure in Southern Oregon is much different than that in the surrounding areas. For example, the proposed area averages 2,508 growing degree days with an average growing season temperature of 61 degrees. By contrast, the coastal region averages 1,369 degree days and an average growing season temperature of 56 degrees, the Willamette Valley averages 2,034 degree days and a growing temperature of 59 degrees, while Eastern Oregon averages 1,625 degree days and a growing temperature of 55.5 degrees.

In addition, the petition relates that the climate of the Willamette Valley is cooler and wetter than that of Southern Oregon, while the coastal area, despite having the longest growing season, does not accumulate enough heat to ripen most grape varieties and, due to high rainfall amounts, subjects grapes to risk of mildew and botrytis. Finally, the Eastern Oregon region exhibits a cooler and shorter growing season climate due to its elevation and distance from the Pacific Ocean. The cold winters east of the Cascades leave vines vulnerable to frost kill, and the short growing season is insufficient to ripen fruit. Harvest time in the proposed Southern Oregon area, the petition states, may start up to 10 days earlier than in the Willamette Valley for identical varieties such as Pinot Noir and Pinot Gris. Further, varieties such as Cabernet Sauvignon and Merlot will ripen up to 3 weeks earlier in Southern Oregon than they would in the Willamette Valley, if they ripen at all, according to the petition.

Rainfall

The petitioner states that the proposed Southern Oregon viticultural area receives significantly less rainfall than the coastal region (about 140% less on average) to its east and 40% less than the Willamette Valley to its north. Annual rainfall averages 35 inches in the Rogue Valley and 32 inches in the Umpqua Valley. By comparison, the Coastal Range, and Willamette Valley, average 77 and 47 inches of annual rainfall, respectively, while eastern Oregon averages 20 inches of annual perception.

Maps and Boundary Description

See the list of maps and the narrative boundary description for the petitioned viticultural area in the proposed regulation published at the end of this notice.

Public Participation

Comments Sought

We request comments from anyone interested. Please support your comments with specific information about the proposed area's name, growing conditions, or boundaries. All comments must be legible, reference this notice number, and include your name and mailing address.

Although we do not acknowledge receipt, we will consider your comments if we receive them on or before the closing date. We will consider comments received after the closing date if we can. We regard all comments as originals.

Comment Confidentiality

We do not recognize any comments or other submitted material as confidential. All comments are part of the public record and are subject to disclosure. Do not enclose in your comments any material you consider confidential or inappropriate for disclosure.

Where Should I Submit Comments?

You may submit comments:

• By mail: You may send written comments to TTB at the address listed in the ADDRESSES section.

• By facsimile: You may submit comments by facsimile transmission to 202-927-8525. Faxed comments must—

(1) Be on 8.5 by 11-inch paper;

(2) Contain a legible, written signature; and

(3) Be five or less pages long. This limitation assures access to our fax equipment. We will not accept faxed comments that exceed five pages.

• By e-mail: You may e-mail comments to nprm@ttb.gov. Comments transmitted by electronic-mail must—

(1) Contain your e-mail address;

(2) Reference this notice number on the subject line; and

(3) Be legible when printed on 8½ x 11-inch size paper.

• By online form: We provide a comment form with the online copy of this notice on our Web site at http://www.ttb.gov/alcohol/rules/index.htm. Select the “Send comments via e-mail” link under this notice number.

You may also write to the Administrator before the comment closing date to ask for a public hearing. The Administrator reserves the right to determine, in light of all circumstances, whether a public hearing will be held.

Public Disclosure

You may inspect copies of the petition, the proposed regulations, the appropriate maps, and any written comments received by appointment at the TTB Reference Library, Room 6480, 650 Massachusetts Avenue, NW., Washington, DC 20226. You may also obtain copies at 20 cents per page. Contact the ATF Librarian at the above address or telephone 202-927-7890 to schedule an appointment or to request copies of the comments or other documents.

For your convenience, we will post comments received in response to this notice on the TTB Web site. All comments posted on our Web site will show the names of commenters but not street addresses, telephone numbers, or e-mail addresses. We may also omit voluminous attachments or material that we consider unsuitable for posting. In all cases, the full comment will be available in the ATF Reference Library. To see the online copy of this notice, visit http://www.ttb.gov/alcohol/rules/index.htm. Select the “View Comments” link under this Notice number to view the posted comments.

Regulatory Analyses and Notices

Paperwork Reduction Act

We propose no requirement to collect information. Therefore, the provisions of the Paperwork Reduction Act of 1995, 44 U.S.C. 3507, and its implementing regulations, 5 CFR part 1320, do not apply.

Regulatory Flexibility Act

The Regulatory Flexibility Act, 5 U.S.C. 601 et seq., requires an agency to conduct a regulatory flexibility analysis on any proposed rule that may have a significant economic impact on a substantial number of small entities. We certify that this regulation will not have a significant economic impact on a substantial number of small entities. This regulation imposes no new reporting, recordkeeping, or other administrative requirements.

The establishment of viticultural areas represents neither our endorsement nor approval of the quality of wine made from grapes grown in the areas. The use of viticultural names as appellations of origin merely allow vintners to better describe the origin of their wines to consumers and helps consumers identify the wines they purchase. Thus, any benefit derived from using a viticultural area name results from a proprietor's own efforts and consumer acceptance of wines from that area. Therefore, no regulatory flexibility analysis is required.

Executive Order 12866

This proposed rule is not a “significant regulatory action” as defined by Executive Order 12866. Accordingly, no regulatory assessment is required.

Drafting Information

The principal author of this document is Bernard J. Kipp, Regulations and Procedures Division (Portland, Oregon), Alcohol and Tobacco Tax and Trade Bureau.

List of Subjects in 27 CFR Part 9

Wine.

Authority and Issuance

For the reasons stated in the preamble, the Alcohol and Tobacco Tax and Trade Bureau proposes to amend title 27, chapter I, part 9, Code of Federal Regulations, as follows:

PART 9—AMERICAN VITICULTURAL AREAS

1. The authority citation for part 9 continues to read as follows:

Authority: 27 U.S.C. 205.

2. Subpart C is amended by adding section 9.____ to read as follows:

Subpart C—Approved American Viticultural Areas

* * * * *

§ 9.____ Southern Oregon

(a) Name. The name of the viticultural area described in this section is “Southern Oregon”.

(b) Approved Maps. The appropriate maps for determining the boundaries of the Southern Oregon viticultural area are 2 USGS, 1:250,000 scale topographic maps. They are:

(1) Roseburg, Oregon—1958, revised 1970;

(2) Medford, Oregon; California—1955, revised 1976.

(c) Boundaries. The Southern Oregon viticultural area is located entirely within Douglas, Jackson, and Josephine Counties, Oregon. The beginning point is the intersection of Interstate Highway 5 with the Douglas/Lane County line in Township 21 South (T21S), Range 4 West (R4W) on the “Roseburg” map.

(1) From the beginning point, the boundary proceeds north along the Douglas/Lane County line approximately 0.5 miles to the 1,000-foot contour line;

(2) Then northwest along the 1,000-foot contour line to the Douglas/Lane County line; then west along the Douglas/Lane County line approximately 2.5 miles, returning to the 1,000-foot contour line; then in a generally westerly direction along the 1,000-foot contour line to its first intersection with the R9W/R10W range line;

(3) From that point, continue along the 1,000-foot contour line, crossing the R9W/R10W range line four more times; then proceed south along the R9W/R10W range line approximately 2.75 miles to the center of the Umpqua River; then along a straight line in an easterly direction approximately 6.25 miles to the intersection of range line R8W/R9W with the center of the Umpqua River; then south along range line R8W/R9W approximately 3.5 miles to its intersection with township line T22S/T23S;

(4) Then southeast approximately 8.5 miles along a straight line to the intersection of township line T23S/T24S with range line R7W/R8W; then south along the R7W/R8W range line approximately 8 miles to its intersection with the 1,000-foot contour line; then in a southeasterly direction in a straight line approximately 3.5 miles towards the intersection of township line T25S/T26S with range line R6W/R7W, but stopping short at the 1,000-foot contour line;

(5) Then in a southerly direction along the 1,000-foot contour line to the intersection of township line T27S/T28S with range line R7W/R8W; then in a southwesterly direction in a straight line approximately 3.5 miles toward the intersection of township line T28S/T29S with range line R8W/R9W, but stopping short and returning to the 1,000-foot contour line near the center of T28S/R8W; then generally south along the 1,000-foot contour line to its intersection with township line T29S/T30S;

(6) Then east along township line T29S/T30S approximately 0.33 miles, rejoining the 1,000-foot contour line; then in a northerly and eventually a southerly direction along the 1,000-foot contour line, passing onto the Medford map, and past the town of Riddle to range line R6W/R7W; then south along the R6W/R7W range line approximately 15 miles to the Josephine County/Douglas County line; then in a general northeasterly direction along the Josephine County/Douglas County line to its intersection with Interstate 5 approximately 1.3 miles south of Cow Creek ;

(7) Then the boundary proceeds southerly and southwesterly along southbound Interstate 5 to its junction with Wolf Creek and then north about 500 feet to the Southern Pacific Railway line; then westerly and southerly out of the town of Wolf Creek along the Southern Pacific Railway line to the rail line's intersection with Hugo Road at the town of Hugo; then southwesterly along Hugo Road to the point where Hugo Road crosses Jumpoff Joe Creek; then westerly and down stream along Jumpoff Joe Creek to the intersection of Jumpoff Joe Creek and the Rogue River;

(8) Then northwesterly and down stream along the Rogue River to the first point where the Wild and Scenic Rogue River designated area touches the easterly boundary of the Siskiyou National Forest just south of Galice;

(9) Then in a generally southwesterly direction (with many diversions) along the easterly border of the Siskiyou National Forest to the 42 degree 0 minute latitude line; then easterly along the 42° 0′ north latitude line to the point where the Siskiyou National Forest boundary again crosses into Oregon approximately 1 mile east of U.S. Highway 199;

(10) Then in a generally northeasterly direction and then in a southeasterly direction (with many diversions) along the northern boundary of the Siskiyou National Forest to the point where the Siskiyou National Forest touches the Rogue River National Forest at Big Sugarloaf Peak;

(11) Then in a generally easterly direction (with many diversions) along the northern border of the Rogue River National Forest to the point where the Rogue River National Forest intersects with Slide Creek approximately 6 miles southeast of Ashland;

(12) Then southeasterly and northeasterly along Slide Creek to the point where it intersects State Highway 273; then northwesterly along State Highway 273 to the point where it intersects State Highway 66; then in an easterly direction approximately 5 miles along State Highway 66 to the east line of Township 39 South, Range 2 East (T39S, R2E);

(13) Then following the east line of T39S, R2E, in a northerly direction to the northeast corner of T39S, R2E; then westerly approximately 5 miles along the north line of T39S, R2E, to the 2,600 foot contour line; then in a northerly direction following the 2,600 foot counter line across Walker Creek and then in a southwesterly direction to the point where the 2,600 foot contour line touches the east line of T38S, R1E;

(14) Then northerly along the east line of T38S, R1E, to the northeast corner of T38S, R1E;

(15) Then westerly along the north line of T38S, R1E, to the northwest corner of T38S, R1E;

(16) Then northerly along the west line of T37S, R1E, to the northwest corner of T37S, R1E;

(17) Then easterly along the north lines of T37S, R1E, and T37S, R2E, to the southeast corner of T36S, R2E;

(18) Then northerly along the east line of T36S, R2E, to the northeast corner of T36S, R2E;

(19) Then westerly along the north line of T36S, R2E, to the northwest corner of T36S, R2E;

(20) Then northerly along the east line of T35S, R1E, to the northeast corner of T35S, R1E;

(21) Then westerly along the north line of T35S, R1E, to the northwest corner of T35S, R1E;

(22) Then northerly along the east line of T34S, R1W, to the northeast corner of T34S, R1W;

(23) Then westerly along the common boundary line of T34S/T33S to the northwest corner of T34S, R5W;

(24) Then northerly along the west line of T33S, R5W, to the Josephine County/Douglas County line; thence in a generally east, northeasterly direction along the Josephine County/Douglas County line to the intersection of R3W/R4W range line; thence north along the R3W/R4W range line approximately 11.8 miles to the 1,000-foot contour line just south of State Road 227 southeast of the town of Days Creek;

(25) Then in an easterly, westerly, and eventually a northerly direction along the 1,000-foot contour line to a point approximately 3.5 miles east of Dillard, where the contour line crosses Interstate Highway 5 on the “Roseburg” map; thence northeast along Interstate Highway 5 approximately 0.25 mile, returning to the 1,000-foot contour line; thence in a generally northeasterly, southeasterly, northwesterly, and eventually a northeasterly direction along the 1,000-foot contour line past the town of Idleyld Park to the R2W/R3W range line;

(26) Then north along range line R2W/R3W approximately 1.75 miles to the T25S/T26S township line; thence west along township line T25S/T26S approximately .25 mile, returning to the 1,000-foot contour line; thence in a generally westerly and then a northerly direction along the 1,000-foot contour line up the valley of Calapooya Creek to the R3W/R4W range line; thence north along range line R3W/R4W approximately 2.25 miles, back to the 1,000-foot contour line;

(27) Then in a westerly and then a northerly direction along the 1,000-foot contour line to the T23S/T24S township line, then east along the T23S/T24S township line approximately 2.75 miles to the 1,000-foot contour line; then in a northerly direction along the 1,000-foot contour line to its intersection with the Douglas/Lane County line; thence north along the Douglas/Lane County line approximately 0.75 mile to the point of beginning.

Signed: September 2, 2003.
John J. Manfreda,
Acting Administrator.

[FR Doc. 03-23887 Filed 9-17-03; 8:45 am]

BILLING CODE 4810-31-P